DEPARTMENT OF ENERGY

Federal Energy Regulatory Commission

[Docket No. CP99-284-000]

Koch Gateway Pipeline Company; Notice of Site Visit

September 1, 2000.

On September 19 and 20, 2000, the staff of the Office of Energy Projects (OEP) will conduct a route review of the existing Index 1 Pipeline and related laterals proposed for abandonment by Koch Gateway Pipeline Company (Koch). These facilities were the subject of an Environmental Assessment prepared by the OEP staff and issued for public review and comment on January 27, 2000. The routes, located in the Dallas-Fort Worth area of Texas, will be inspected by automobile. Representatives of Koch will accompany the OEP staff.

Anyone interested in attending the route review or obtaining further information may contact Mr. Paul McKee of the Commission's External Affairs Office at (202) 208-1088. Attendees must provide their own transportation.

Linwood A. Watson, Jr.,
Acting Secretary.

[FR Doc. 00-23063 Filed 9-7-00; 8:45 am]

BILLING CODE 6717-01-M